DEPARTMENT OF TRANSPORTATION

Federal Highway Administration

Notice of Final Federal Agency Actions on Proposed Highway in Utah

AGENCY: Utah Department of Transportation (UDOT), Federal Highway Administration (FHWA), Department of Transportation.

ACTION: Notice of Limitation on Claims for Judicial Review of Actions Taken by UDOT on behalf of FHWA.

SUMMARY: This notice announces certain actions taken by UDOT that are final Federal agency actions. These actions relate to Purgatory Road, a proposed highway project between State Route (SR) 9 and Southern Parkway (SR 7), in the County of Washington, State of Utah. Those actions grant licenses, permits and/or approvals for the project.

DATES: By this notice, the FHWA, on behalf of UDOT, is advising the public of final Federal agency actions subject to 23 U.S.C. 139(l)(1). A claim seeking judicial review of the Federal agency actions on the highway project will be barred unless the claim is filed on or before August 30, 2019. If the Federal law that authorizes judicial review of a claim provides a time period of less than 150 days for filing such claim, then that shorter time period still applies.

FOR FURTHER INFORMATION CONTACT: Naomi Kisen, Environmental Program Manager, UDOT Environmental Services, P.O. Box 143600, Salt Lake City, UT 84114; telephone: (801) 965-4005; email: nkisen@utah.gov. UDOT's normal business hours are 8:00 a.m. to 5:00 p.m. (Mountain Time Zone), Monday through Friday, except State and Federal holidays.

SUPPLEMENTARY INFORMATION: Effective January 17, 2017, FHWA assigned to UDOT certain responsibilities of FHWA for environmental review, consultation, and other actions required by applicable Federal environmental laws and regulations for highway projects in Utah, pursuant to 23 U.S.C. 327. Actions taken by UDOT on FHWA's behalf pursuant to 23 U.S.C. 327 constitute Federal agency actions for purposes of Federal law. Notice is hereby given that UDOT has taken final agency actions subject to 23 U.S.C. 139(l)(1) by issuing licenses, permits, and approvals for the Purgatory Road; SR 9 to Southern Parkway project in the State of Utah. The Purgatory Road project proposes to improve regional system linkage and mobility between SR 9 and Southern Parkway. The project includes constructing a new three-lane roadway on new alignment between SR 9 and Southern Parkway. The proposed alignment would begin at SR 9 and follow the existing 5300 West alignment until the Quail Creek Industrial Park. The alignment would then run generally southward along the existing dirt road on the east side of the Purgatory Flat until approximately Landfill Road where it would swing to the west. The alignment would then cross the Virgin River via a new approximate 400-feet long, three-span structure to connect directly to Southern Parkway. These improvements were identified in the Environmental Assessment (EA) prepared for the project by UDOT as the Purgatory Road Build Alternative, which combined Alternatives N2, M3, and R2. The actions by UDOT, and the laws under which such actions were taken, are described in the EA and UDOT Finding of No Significant Impact (FONSI) for the project (Finding of No Significant Impact for Purgatory Road; State Route 9 to Southern Parkway in Washington County, Utah, Project No. F-LC53(72)), issued on February 26, 2019, and in other documents in the UDOT project records. The EA and FONSI, and other project records are available by contacting UDOT at the address provided above. The EA and FONSI can also be viewed and downloaded from the project website at https://www.purgatoryrd.com/.

This notice applies to the EA, the FONSI, the Section 4(f) determination, the NHPA Section 106 review, the Endangered Species Act determination, and all other UDOT decisions and other actions with respect to the project as of the issuance date of this notice and all laws under which such actions were taken, including but not limited to the following laws (including their implementing regulations):

1. General: National Environmental Policy Act, 42 U.S.C. 4321-4351; Federal-Aid Highway Act, 23 U.S.C. 109 and 23 U.S.C. 128.

2. Air: Clean Air Act, 42 U.S.C. 7401-7671q.

3. Land: Section 4(f) of the Department of Transportation Act of 1966, 49 U.S.C. 303; 23 U.S.C. 138; Landscaping and Scenic Enhancement (Wildflowers), 23 U.S.C. 319.

4. Wildlife: Endangered Species Act, 16 U.S.C. 1531-1544 and Section 1536; Fish and Wildlife Coordination Act, 16 U.S.C. 661-667d; Migratory Bird Treaty Act, 16 U.S.C. 703-712.

5. Water: Section 404 of the Clean Water Act, 33 U.S.C. 1344; E.O. 11990, Protection of Wetlands; Section 402 of the Clean Water Act, 33 U.S.C. 1342.

6. Historic and Cultural Resources: Section 106 of the National Historic Preservation Act of 1966, 16 U.S.C. 470f; Archeological Resources Protection Act of 1977, 16 U.S.C. 470aa-470mm; Archeological and Historic Preservation Act, 16 U.S.C. 469-469c.

7. Noise: Federal-Aid Highway Act of 1970, Public Law 91-605, 84 Stat. 1713.

8. Executive Orders: E.O. 11593 Protection and Enhancement of Cultural Resources; E.O. 13287, Preserve America; E.O. 12898, Federal Actions to Address Environmental Justice and Low-Income Populations.

(Catalog of Federal Domestic Assistance Program Number 20.205, Highway Planning and Construction. The regulations implementing Executive Order 12372 regarding intergovernmental consultation on Federal programs and activities apply to this program.)

Authority: 23 U.S.C. 139(l)(1).

Issued on: March 26, 2019.
Ivan Marrero,
Division Administrator, Federal Highway Administration, Salt Lake City, Utah.

[FR Doc. 2019-06358 Filed 4-1-19; 8:45 am]

BILLING CODE 4910-RY-P